DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: November 16, 2016.
Roy E. Wright,
Deputy Associate Administrator for Insurance and Mitigation, Department of Homeland Security, Federal Emergency Management Agency.

State and county | Location and case No. | Chief executive officer of community | Community map repository | Effective date of modification | Community, No.
Colorado:
Boulder (FEMA Docket No.: B-1628) | City of Boulder (16-08-0026P) | Ms. Jane Brautigam, Manager, City of Boulder, 1777 Broadway Street, Boulder, CO 80302 | Park Central Building, 1739 Broadway Street, Boulder, CO 80308 | Aug. 18, 2016 | 080024
Boulder (FEMA Docket No.: B-1628) | Unincorporated areas of Boulder County (16-08-0026P) | The Honorable Elise Jones, Chair, Boulder County Board of Commissioners, 1325 Pearl Street, 3rd Floor, Boulder, CO 80302 | Boulder County Transportation Department, 2525 13th Street, Suite 203, Boulder, CO 80306 | Aug. 18, 2016 | 080023
Connecticut: Fairfield (FEMA Docket No.: B-1635) | Town of Stratford (15-01-1945P) | The Honorable John A. Harkins, Mayor, Town of Stratford, 2725 Main Street, Stratford, CT 06615 | Engineering Department, 2725 Main Street, Stratford, CT 06615 | Aug. 5, 2016 | 090016
Florida:
Bay (FEMA Docket No.: B-1628) | City of Panama City (16-04-0407P) | The Honorable Greg Brudnicki, Mayor, City of Panama City, 9 Harrison Avenue, Panama City, FL 32401 | Public Works Engineering Division, 9 Harrison Avenue, Panama City, FL 32401 | Aug. 19, 2016 | 120012
Bay (FEMA Docket No.: B-1628) | Unincorpo rated areas of Bay County (16-04-0407P) | The Honorable Mike Nelson, Chairman, Bay County Board of Commissioners, 840 West 11th Street, Panama City, FL 32401 | Bay County Planning and Zoning Division, 840 West 11th Street, Panama City, FL 32401 | Aug. 19, 2016 | 120004
Broward (FEMA Docket No.: B-1628) | City of Hallandale Beach (16-04-0173P) | The Honorable Joy F. Cooper, Mayor, City of Hallandale Beach, 400 South Federal Highway, Hallandale Beach, FL 33009 | Development Services Department, 400 South Federal Highway, Hallandale Beach, FL 33009 | Aug. 2, 2016 | 125110
Broward (FEMA Docket No.: B-1628) | Unincorporated areas of Broward County (16-04-0173P) | Ms. Bertha Henry, Broward County Administrator, 115 South Andrews Avenue, Fort Lauderdale, FL 33301 | Broward County Environmental Licensing and Building Permitting Division, 1 North University Drive, Plantation, FL 33324. | Aug. 2, 2016 | 125093
Hillsborough (FEMA Docket No.: B-1635) | City of Tampa (16-04-2659P) | The Honorable Bob Buckhorn, Mayor, City of Tampa, 306 East Jackson Street, Tampa, FL 33602. | Development Services Center, 1400 North Boulevard, Tampa, FL 33607 | Aug. 23, 2016 | 120114
Manatee (FEMA Docket No.: B-1628) | Unincorporated areas of Manatee County (15-04-9689P) | The Honorable Vanessa Baugh, Chair, Manatee County Board of Commissioners, 1112 Manatee Avenue West, Bradenton, FL 34205 | Manatee County Building and Development Services Department, 1112 Manatee Avenue West, Bradenton, FL 34205 | Aug. 24, 2016 | 120153
Miami-Dade (FEMA Docket No.: B-1628) | Unincorporated areas of Miami-Dade County (16-04-2319P) | The Honorable Carlos A. Gimenez, Mayor, Miami-Dade County, 111 Northwest 1st Street, Miami, FL 33128 | Miami-Dade County Regulatory and Economic Resources Water Management Division, 701 Northwest 1st Court, 5th Floor, Miami, FL 33136 | Aug. 2, 2016 | 120635
Monroe (FEMA Docket No.: B-1628) | Unincorporated areas of Monroe County (16-04-0996P) | The Honorable Heather Carruthers, Mayor, Monroe County Board of Commissioners, 500 Whitehead Street, Suite 102, Key West, FL 33040 | Monroe County Building Department, 2798 Overseas Highway, Suite 300, Marathon, FL 33050 | Aug. 2, 2016 | 125129
Monroe (FEMA Docket No.: B-1628) | Unincorporated areas of Monroe County (16-04-2190P) | The Honorable Heather Carruthers, Mayor, Monroe County Board of Commissioners, 500 Whitehead Street, Suite 102, Key West, FL 33040 | Monroe County Building Department, 2798 Overseas Highway, Suite 300, Marathon, FL 33050 | Aug. 4, 2016 | 125129
Monroe (FEMA Docket No.: B-1635) | Unincorporated areas of Monroe County (16-04-3138P) | The Honorable Heather Carruthers, Mayor, Monroe County Board of Commissioners, 500 Whitehead Street, Suite 102, Key West, FL 33040 | Monroe County Building Department, 2798 Overseas Highway, Suite 300, Key West, FL 33050 | Aug. 25, 2016 | 125129
Orange (FEMA Docket No.: B-1628) | City of Orlando (16-04-0456P) | The Honorable Buddy Dyer, Mayor, City of Orlando, P.O. Box 4990, Orlando, FL 32802 | Public Works Department, Engineering Division, 400 South Orange Avenue, 8th Floor, Orlando, FL 32801 | Aug. 19, 2016 | 120186
Orange (FEMA Docket No.: B-1628) | Unincorporated areas of Orange County (16-04-0456P) | The Honorable Teresa Jacobs, Mayor, Orange County, 201 South Rosalind Avenue, 5th Floor, Orlando, FL 32801. | Orange County Stormwater Division, 4200 South John Young Parkway, Orlando, FL 32839 | Aug. 19, 2016 | 120179
St. Johns (FEMA Docket No.: B-1628) | Unincorporated areas of St. Johns County (16-04-2611P) | The Honorable Jeb Smith, Chairman, St. Johns County Board of Commissioners, 500 San Sebastian View, St. Augustine, FL 32084 | St. Johns County Building Services Division, 4040 Lewis Speedway, St. Augustine, FL 32084 | Aug. 2, 2016 | 125147
Georgia:
Bryan (FEMA Docket No.: B-1628) | City of Richmond Hill (16-04-2230P) | The Honorable E. Harold Fowler, Mayor, City of Richmond Hill, 40 Richard R. Davis Drive, Richmond Hill, GA 31324 | Planning and Zoning Department, 85 Richard R. Davis Drive, Richmond Hill, GA 31324 | Aug. 5, 2016 | 130018
Bryan (FEMA Docket No.: B-1628) | Unincorporated areas of Bryan County (16-04-2230P) | The Honorable Jimmy Burnsed, Chairman, Bryan County Board of Commissioners, 173 Davis Road, Richmond Hill, GA 31324 | Bryan County Planning and Zoning Department, 66 Captain Matthew Freeman Drive, Suite 201, Richmond Hill, GA 31324 | Aug. 5, 2016 | 130016
Grady (FEMA Docket No.: B-1635) | Unincorporated areas of Grady County (16-04-0690P) | The Honorable Charlie Norton, Chairman, Grady County Board of Commissioners, 250 North Broad Street, Cairo, GA 39828 | Grady County Code Enforcement Division, 250 North Broad Street, Cairo, GA 39828 | Aug. 18, 2016 | 130096
Kentucky: Jefferson (FEMA Docket No.: B-1628) | Louisville-Jefferson County Metropolitan Government (16-04-3003X) | The Honorable Greg Fischer, Mayor, City of Louisville, 527 West Jefferson Street, 4th Floor, Louisville, KY 40202 | Metropolitan Sewer District, 700 West Liberty Street, Louisville, KY 40203 | Aug. 1, 2016 | 210120
Louisiana:
Bossier (FEMA Docket No.: B-1628) | City of Bossier City (15-06-2130P) | The Honorable Lorenz Walker, Mayor, City of Bossier City, P.O. Box 5337, Bossier City, LA 71171 | City Hall, 620 Benton Road, Bossier City, LA 71171 | Aug. 18, 2016 | 220033
Bossier (FEMA Docket No.: B-1628) | Unincorporated areas of Bossier Parish (15-06-2130P) | The Honorable William R. Altimus, Bossier Parish Administrator, P.O. Box 70, Benton, LA 71006 | Bossier Parish Courthouse, 204 Burt Boulevard, Benton, LA 71006 | Aug. 18, 2016 | 220031
Maryland:
Cecil (FEMA Docket No.: B-1618) | Town of Port Deposit (15-03-2779P) | The Honorable Wayne L. Tome, Sr., Mayor, Town of Port Deposit, 64 South Main Street, Port Deposit, MD 21904 | Town Hall, 64 South Main Street, Port Deposit, MD 21904 | Aug. 1, 2016 | 240025
Cecil (FEMA Docket No.: B-1618) | Unincorporated areas of Cecil County (15-03-2779P) | The Honorable Tari Moore, Cecil County Executive, 200 Chesapeake Boulevard, Suite 2100, Elkton, MD 21921 | Cecil County Department of Planning and Zoning, 200 Chesapeake Boulevard, Suite 2300, Elkton, MD 21921 | Aug. 1, 2016 | 240019
Harford (FEMA Docket No.: B-1618) | Unincorporated areas of Harford County (15-03-2779P) | The Honorable Barry Glassman, Harford County Executive, 220 South Main Street, Bel Air, MD 21014 | Harford County Department of Planning and Zoning, 220 South Main Street, Bel Air, MD 21014 | Aug. 1, 2016 | 240040
Massachusetts: Barnstable (FEMA Docket No.: B-1628) | Town of Falmouth (16-01-0373P) | The Honorable Doug Jones, Chairman, Town of Falmouth Board of Selectmen, 59 Town Hall Square, Falmouth, MA 02540 | Town Hall, 59 Town Hall Square, Falmouth, MA 02540 | Aug. 15, 2016 | 255211
Mississippi:
Rankin (FEMA Docket No.: B-1635) | City of Flowood (16-04-1696P) | The Honorable Gary Rhoads, Mayor, City of Flowood, P.O. Box 320069, Flowood, MS 39232 | Engineering Department, 109 Woodline Drive, Flowood, MS 39232 | Aug. 18, 2016 | 280289
Rankin (FEMA Docket No.: B-1635) | City of Jackson (16-04-1696P) | The Honorable Tony Yarber, Mayor, City of Jackson, P.O. Box 17, Jackson, MS 39205 | Public Works Department, 200 South President Street, Jackson, MS 39205 | Aug. 18, 2016 | 280072
North Carolina: Buncombe (FEMA Docket No.: B-1628) | Unincorporated Areas of Buncombe County (15-04-8908P) | The Honorable David Gantt, Chairman, Buncombe County Board of Commissioners, 200 College Street, Suite 316, Ashville, NC 28801 | Buncombe County Planning Department, 46 Valley Street, Ashville, NC 28801 | Aug. 5, 2016 | 370031
North Dakota:
Dunn (FEMA Docket No.: B-1635) | City of Killdeer (16-08-0302X) | The Honorable Chuck Muscha, President, City of Killdeer Council, P.O. Box 270, Killdeer, ND 58640 | Planning and Zoning Department, 165 Railroad Street, Killdeer, ND 58640 | Jul. 18, 2016 | 380030
Dunn (FEMA Docket No.: B-1635) | Unincorporated areas of Dunn County (16-08-0302X) | The Honorable Reinhard Hauck, Chairman, Dunn County Board of Commissioners, 205 Owens Street, Manning, ND 58642 | Dunn County Planning and Zoning Department, 205 Owens Street, Manning, ND 58642 | Jul. 18, 2016 | 380026
Oklahoma: Payne (FEMA Docket No.: B-1628) | Unincorporated areas of Payne County (15-06-3395P) | The Honorable Kent Bradley, Chairman, Payne County Board of Commissioners, 506 Expo Circle South, Stillwater, OK 74074 | Payne County Floodplain Administrator's Office, 315 West 6th Avenue, Suite 203, Stillwater, OK 74074 | Aug. 22, 2016 | 400493
Pennsylvania:
Montgomery (FEMA Docket No.: B-1628) | Borough of Ambler (15-03-2420P) | The Honorable Salvatore Pasceri, President, Borough of Ambler Council, 131 Rosemary Avenue, Ambler, PA 19002 | Borough Hall, 131 Rosemary Avenue, Ambler, PA 19002 | Aug. 1, 2016 | 420947
Montgomery (FEMA Docket No.: B-1628) | Township of Lower Gwynedd (15-03-2420P) | The Honorable Stephen J. Paccione, Chairman, Township of Lower Gwynedd Board of Supervisors, P.O. Box 625, Spring House, PA 19477 | Township Hall, 1130 North Bethlehem Pike, Spring House, PA 19477 | Aug. 1, 2016 | 420953
Montgomery (FEMA Docket No.: B-1628) | Township of Upper Dublin (15-03-2420P) | The Honorable Ira S. Tackel, President, Township of Upper Dublin Board of Commissioners, 801 Loch Alsh Avenue, Fort Washington, PA 19034 | Township Hall, 801 Loch Alsh Avenue, Fort Washington, PA 19034 | Aug. 1, 2016 | 420708
Montgomery (FEMA Docket No.: B-1628) | Township of Whitemarsh (15-03-2924P) | The Honorable Amy P. Grossman, Chair, Township of Whitemarsh Board of Supervisors, 616 Germantown Pike, Lafayette Hill, PA 19444 | Township Administrative Building, 616 Germantown Pike, Lafayette Hill, PA 19444 | Aug. 16, 2016 | 420712
Montgomery (FEMA Docket No.: B-1628) | Township of Whitpain (15-03-2420P) | The Honorable Adam Zucker, Chairman, Township of Whitpain Board of Supervisors, 960 Wentz Road, Blue Bell, PA 19422 | Township Hall, 960 Wentz Road, Blue Bell, PA 19422 | Aug. 1, 2016 | 420713
Rhode Island:
Washington (FEMA Docket No.: B-1635) | Town of Charlestown (15-01-2168P) | The Honorable Thomas B. Gentz, President, Town of Charlestown Council, 4540 South County Trail, Charlestown, RI 02813 | Building Officials Office, 4540 South County Trail, Charlestown, RI 02813 | Aug. 26, 2016 | 445395
Washington (FEMA Docket No.: B-1635) | Town of Richmond (15-01-2168P) | The Honorable Henry Oppenheimer, President, Town of Richmond Council, 5 Richmond Townhouse Road, Wyoming, RI 02898 | Town Hall, 5 Richmond Townhouse Road, Wyoming, RI 02898 | Aug. 26, 2016 | 440031
Tennessee:
Blount (FEMA Docket No.: B-1635) | City of Maryville (16-04-1499P) | The Honorable Tom Taylor, Mayor, City of Maryville, 404 West Broadway Avenue, Maryville, TN 37801 | Engineering and Public Works Department, 416 West Broadway Avenue, Maryville, TN 37801 | Aug. 24, 2016 | 475439
Hamilton (FEMA Docket No.: B-1628) | City of Chattanooga (15-04-3964P) | The Honorable Andy Berke, Mayor, City of Chattanooga, 101 East 11th Street, Chattanooga, TN 37402 | Planning Department, 1250 Market Street, Chattanooga, TN 37402 | Aug. 5, 2016 | 470072
Hamilton (FEMA Docket No.: B-1628) | City of East Ridge (15-04-3964P) | The Honorable Brent Lambert, Mayor, City of East Ridge, 1517 Tombras Avenue, East Ridge, TN 37412 | Codes Division, 1517 Tombras Avenue, East Ridge, TN 37412 | Aug. 5, 2016 | 475424
Texas:
Comal (FEMA Docket No.: B-1628) | City of Fair Oaks Ranch (15-06-3044P) | The Honorable Cheryl Landman, Mayor, City of Fair Oaks Ranch, 7286 Dietz Elkhorn Road, Fair Oaks Ranch, TX 78015 | Public Works Department, 7286 Dietz Elkhorn Road, Fair Oaks Ranch, TX 78015 | Aug. 15, 2016 | 481644
Comal (FEMA Docket No.: B-1635) | Unincorporated areas of Comal County (15-06-4497P) | The Honorable Sherman Krause, Comal County Judge, 150 North Seguin Avenue, New Braunfels, TX 78130 | Comal County Engineering Department, 195 David Jonas Drive, New Braunfels, TX 78132 | Aug. 25, 2016 | 485463
Comal (FEMA Docket No.: B-1635) | Unincorporated areas of Comal County (16-06-0368P) | The Honorable Sherman Krause, Comal County Judge, 150 North Seguin Avenue, New Braunfels, TX 78130 | Comal County Engineering Department, 195 David Jonas Drive, New Braunfels, TX 78132 | Aug. 24, 2016 | 485463
Dallas (FEMA Docket No.: B-1635) | City of Grand Prairie (16-06-1120P) | The Honorable Ron Jensen, Mayor, City of Grand Prairie, P.O. Box 534045, Grand Prairie, TX 75053 | City Development Center, 206 West Church, Grand Prairie, TX 75050 | Aug. 22, 2016 | 485472
Denton (FEMA Docket No.: B-1628) | City of Carrollton (15-06-2940P) | The Honorable Matthew Marchant, Mayor, City of Carrollton, P.O. Box 110535, Carrollton, TX 75011 | Engineering Department, 1945 East Jackson Road, Carrollton, TX 75011 | Aug. 22, 2016 | 480167
Fort Bend (FEMA Docket No.: B-1635) | City of Rosenberg (14-06-4590P) | The Honorable Cynthia A. McConathy, Mayor, City of Rosenberg, 2110 4th Street, Rosenberg, TX 77471 | City Hall, 2220 4th Street, Rosenberg, TX 77471 | Aug. 25, 2016 | 480232
Fort Bend (FEMA Docket No.: B-1628) | Unincorporated areas of Fort Bend County (16-06-1119P) | The Honorable Robert Hebert, Fort Bend County Judge, 401 Jackson Street, Richmond, TX 77469 | Fort Bend County Engineering Department, 301 Jackson Street, 4th Floor, Richmond, TX 77469 | Aug. 18, 2016 | 480228
Harris (FEMA Docket No.: B-1635) | City of Houston (16-06-1652P) | The Honorable Sylvester Turner, Mayor, City of Houston, P.O. Box 1562, Houston, TX 77251 | Floodplain Management Office, 1002 Washington Avenue, 3rd Floor, Houston, TX 77002 | Aug. 26, 2016 | 480296
Hood (FEMA Docket No.: B-1635) | City of Granbury (15-06-0390P) | The Honorable Nin Hulett, Mayor, City of Granbury, 116 West Bridge Street, Granbury, TX 76048 | City Hall, 116 West Bridge Street, Granbury, TX 76048 | Aug. 18, 2016 | 480357
Hood (FEMA Docket No.: B-1635) | Unincorporated areas of Hood County (15-06-0390P) | The Honorable Darrell Cockerham, Hood County Judge, 100 East Pearl Street, Granbury, TX 76048 | Hood County Environmental Health Department, 201 West Bridge Street, Granbury, TX 76048 | Aug. 18, 2016 | 480356
Utah: Davis (FEMA Docket No.: B-1628) | City of North Salt Lake (15-08-1306P) | The Honorable Len Arave, Mayor, City of North Salt Lake, 10 East Center Street, North Salt Lake, UT 84054 | City Hall, 10 East Center Street, North Salt Lake, UT 84054 | Aug. 5, 2016 | 490048
Virginia:
Loudoun (FEMA Docket No.: B-1635) | Unincorporated areas of Loudoun County (15-03-2804P) | The Honorable Phyllis J. Randall, Chair, Loudoun County Board of Supervisors, P.O. Box 7000, Leesburg, VA 20177 | Loudoun County Department of Building and Development, 1 Harrison Street Southeast, Leesburg, VA 20175 | Aug. 25, 2016 | 510090
Prince William (FEMA Docket No.: B-1628) | Unincorporated areas of Prince William County (15-03-1042P) | The Honorable Christopher E. Martino, Acting Prince William County Executive, 1 County Complex Court, Prince William, VA 22192 | Prince William County Department of Public Works, 5 County Complex Court, Prince William, VA 22192 | Aug. 4, 2016 | 510119

[FR Doc. 2016-28573 Filed 11-25-16; 8:45 am]

BILLING CODE 9110-12-P